FEDERAL COMMUNICATIONS COMMISSION

[CC Docket No. 01-100; FCC 01-208]

Application by Verizon New York Inc., Verizon Long Distance, Verizon Enterprise Solutions, Verizon Global Networks Inc., and Verizon Select Services Inc., Pursuant to Section 271 of the Telecommunications Act of 1996, For Authorization To Provide In-Region, InterLATA Services in Connecticut

AGENCY: Federal Communications Commission.

ACTION: Notice.

SUMMARY: In this document the Federal Communications Commission grants the section 271 application of Verizon New York Inc., et al. (Verizon) for authority to enter the interLATA telecommunications market in the state of Connecticut. The Commission grants Verizon's application based on our conclusion that Verizon has satisfied all of the statutory requirements for entry, and opened its local exchange markets to full competition.

DATES: Effective July 26, 2001.

FOR FURTHER INFORMATION CONTACT: Claudia Pabo or Alexis Johns, Attorney-Advisors, Policy and Program Planning Division, Common Carrier Bureau, (202) 418-1580.

SUPPLEMENTARY INFORMATION: This is a summary of the Commission's Memorandum Opinion and Order in CC Docket No. 01-100 released July 20, 2001. The complete text of this document is available for inspection and copying during normal business hours in the FCC Reference Information Center, Courtyard Level, 445 12th Street, SW., Washington, DC, and also may be purchased from the Commission's copy contractor, International Transcription Services (ITS, Inc.), CY-B400, 445 12th Street, SW., Washington, DC. It is also available on the Commission's website at http://www.fcc.gov/ccb/ppb/2001ord.html.

Synopsis of the Order

1. On April 23, 2001, Verizon filed an application, pursuant to section 271 of the Communications Act of 1996, with the Commission to provide in-region, interLATA service in the state of Connecticut.

2. The State Commission's Evaluation. The Connecticut Department of Public Utility Control (Connecticut Department) advised the Commission, following months of extensive review, that Verizon met the checklist requirements of section 271(c) and has taken the statutorily required steps to open its local markets to competition. Consequently, the Connecticut Department recommended that the Commission approve Verizon's in-region, interLATA entry in its May 14, 2001 evaluation of the application.

3. The Department of Justice's Evaluation. The Department of Justice (DOJ) filed its evaluation of Verizon's Connecticut application on May 25, 2001. It does not oppose Verizon's 271 application for Connecticut in light of the unique circumstances involved. The DOJ cites the limited extent of Connecticut's service area and the fact that it serves competitive LECs in Connecticut through New York-based systems and operations, which the Commission reviewed in the successful New York 271 application.

Primary Issues in Dispute

4. Checklist Item 4—Unbundled Local Loops. Verizon has adequately demonstrated that it provides unbundled local loops as required by section 271 and our rules. More specifically, Verizon provides nondiscriminatory access to stand alone xDSL-capable loops and digital loops and has demonstrated that it has a line-sharing provisioning process that affords competitors nondiscriminatory access to these facilities. Since Verizon's order volumes for unbundled loops in Connecticut are extremely low, it relies mainly on New York performance data to support its application in Connecticut, therefore the Commission's analysis is based primarily on that data.

5. DSL Stand-Alone Loops. Verizon demonstrates that it is providing stand-alone DSL-capable loops in accordance with the requirements of checklist item 4. The Commission's review of the New York performance data for Verizon's stand-alone loops demonstrates that it installs such loops Connecticut in the same time and manner that it installs such loops for its own retail operations. New York maintenance and repair performance data for DSL loops also show comparable performance for competitors and Verizon retail customers. Also, as of April 2001, Verizon had provisioned only 22 digital loops to competitive LECs in Connecticut. The Commission therefore looks at New York data, which indicates that Verizon meets the requirements of checklist item 4.

6. Other Unbundled Loops. As with stand-alone xDSL loops, the data demonstrate that Verizon's performance for digital loop ordering is at parity. Verizon's performance for other maintenance and repair functions for digital loops is comparable for Verizon retail customers and competitive LECs. Also, the Commission finds that Verizon demonstrates nondiscriminatory access to the high-frequency portion of the loop. It offers line sharing in Connecticut under its interconnection agreements and the terms of its tariff, in accordance with the requirements of the Line Sharing Order (64 FR 29598) and Line Sharing Reconsideration Order (66 FR 9035). Moreover, given the lack of orders for high capacity loops in Connecticut and the small percentage of such orders in New York, the Commission finds that Verizon's performance for high capacity loops complies with checklist item 4.

7. Checklist Item 14—Resale. The Commission concludes that Verizon demonstrates that it satisfies the requirements of this checklist item in Connecticut. The Commission waives its section 271 procedural “freeze frame” requirements to the extent necessary to allow us to consider Verizon's expanded resale offering of DSL services through its advanced services affiliate, Verizon Advanced Data, Inc. (VADI). In an ex parte letter dated July 6, 2001, Verizon stated that VADI would expand its DSL resale offering in Connecticut, allowing a competitive LEC to resell DSL service over a line on which the competitive carrier resells Verizon's voice service. Verizon's July 6 ex parte letter also contains illustrative tariff pages for its expanded resale offering of DSL. VADI implemented these changes through revisions to its F.C.C. Tariff No. 1, which became effective on July 20, 2001. Verizon and VADI, which are subject to the same resale obligations, currently provide local exchange and DSL services to retail customers over the same line. Therefore, the Commission finds that, because Verzon and VADI offer these services on a retail basis, these services are eligible for a wholesale discount under section 521(c)(4). Accordingly the Commission concludes that Verizon must make available to resellers, at a wholesale discount, the same package of voice and DSL services that it provides to its own retail end-user customers.

8. Non-pricing Issues. The Commission concludes that Verizon demonstrates that it makes telecommunications services available for resale in Connecticut in accordance with section 251(c)(4) and 252(d)(3), thus satisfying the requirements of checklist item 14. Verizon states that it commits in its interconnection agreements and tariffs to making its retail services available to competing carriers at wholesale rates.

9. Pricing. The Commission relies on the resale discount and rates in the currently effective tariff in concluding that Verizon is in compliance with the pricing requirements of checklist item 14. Verizon stated in this proceeding that it will modify wholesale and resale rates in Connecticut “contemporaneously” with the modification of these rates in New York. This is part of Verizon's overall commitment to continue to mirror New York wholesale rates, as required by the Connecticut Department.The Commission concludes that Verizon

Other Checklist Items

10. Checklist Item 1—Interconnection and Collocation. Based on the evidence in the record, the Commission concludes that Verizon demonstrates that it provides interconnection in accordance with the requirements of section 251(c)(2) and as specified in section 271 and applied in the Commission's prior orders. Pursuant to this checklist item, Verizon must allow other carriers to interconnect their networks to its network for the mutual exchange of traffic, using any available method of interconnection at any available point in Verizon's network. The Commission finds that Verizon makes interconnection available at any technically feasible point, including the option interconnect at only one technically feasible point within a LATA.

11. Verizon demonstrates that its collocation offerings in Connecticut satisfy the requirements of sections 251 and 271 of the Act. Verizon provides physical and virtual collocation through state-approved tariffs. Verizon's Connecticut physical and virtual collocation tariffs are virtually identical to the New York physical and virtual collocation tariffs, which we found to satisfy checklist item 1 in our Bell Atlantic New York Order. Verizon demonstrates that it offers interconnection in Connecticut to other telecommunications carriers at just, reasonable, and nondiscriminatory rates, in compliance with checklist item 1.

12. Checklist Item 2—Unbundled Network Elements. The Commission finds that charges for UNEs made available in Connecticut to other telecommunications carriers are just, reasonable, and nondiscriminatory in compliance with checklist item 2. Verizon uses its New York systems and processes to serve its Connecticut subscribers and the Connecticut Department has ordered Verizon to continue to make available to competitive LECs in Connecticut all UNE combinations Verizon offers in New York. Based on the present record, the Commission finds that Verizon demonstrates that it provides nondiscriminatory access to its OSS.

13. Checklist Item 5—Unbundled Local Transport. Section 271(c)(2)(B)(v) of the competitive checklist requires a BOC to provide “local transport from the trunk side of a wireline local exchange carrier switch unbundled from switching or other services.” The Commission concludes, based upon the evidence in the record, that Verizon demonstrates that it provides both shared and dedicated transport in compliance with the requirements of checklist item 5.

14. Checklist Item 13—Reciprocal Compensation. Based on the evidence in the record, the Commission concludes that Verizon demonstrates that it has entered into reciprocal compensation arrangements in accordance with the requirements of section 252(d)(2) and is making all required payments in a timely fashion. Verizon thus satisfies the requirements of checklist item 13.

15. Remaining Checklist Items (3, 6-12.). An applicant under section 271 must demonstrate that it complies with checklist item 3 (access to poles, ducts, and conduits), checklist item 6 (unbundled local switching), item 7 (911/E911 access and directory assistance/operator services), item 8 (white page directory listings), item 9 (numbering administration), item 10 (databases and associated signaling), item 11 (number portability), and item 12 (local dialing parity). Based on the evidence in the record, and in accordance with Commission rules and orders concerning compliance with section 271 of the Act, the Commission concludes that Verizon demonstrates that it is in compliance with checklist items 3, 6, 7, 8, 9, 10, 11 and 12 in Connecticut. The Connecticut Department also concludes that Verizon complies with the requirements of each of these checklist items.

16. Compliance with Section 271(c)(1)(A). The Commission concludes that Verizon demonstrates that it satisfies the requirements of section 271(c)(1)(A) based on the interconnection agreements it has implemented with competing carriers in Connecticut. The record demonstrates that competing LECs serve a sufficient number of business and residential customers using predominantly their own facilities in its very limited service area in Connecticut. The Connecticut Department likewise concluded that Verizon satisfies the requirements of section 271(c)(1)(A).

17. Section 272 Compliance. Verizon has demonstrated that it complies with the requirements of section 272. Significantly, Verizon provides evidence that it maintains the same structural separation and nondiscrimination safeguards in Connecticut as it does in New York and Massachusetts, states in which Verizon has already received section 271 authority.

18. Public Interest Analysis. The Commission concludes that approval of this application is consistent with the public interest. It views the public interest requirement as an opportunity to review the circumstances presented by the applications to ensure that no other relevant factors exist that would frustrate the congressional intent that markets be open, as required by the competitive checklist, and that entry will therefore serve the public interest as Congress expected. While no one factor is dispositive in this analysis, the Commission's overriding goal is to ensure that nothing undermines its conclusion that markets are open to competition.

19. Among other factors, the Commission may review the local and long distance markets to ensure that there are not unusual circumstances that would make entry contrary to the public interest under the particular circumstances of this Application. The Commission finds that, consistent with its extensive review of the competitive checklist, barriers to competitive entry in the local market have been removed and the local exchange market today is open to competition. The Commission also finds that the record confirms our view that a BOC's entry into the long distance market will benefit consumers and competition if the relevant local exchange market is open to competition consistent with the competitive checklist.

20. The Commission also finds that the performance monitoring and enforcement mechanisms developed in Connecticut, in combination with other factors, provide meaningful assurance that Verizon will continue to satisfy the requirements of section 271 after entering the long distance market.

21. Section 271(d)(6) Enforcement Authority. Working with the Connecticut Department, the Commission intends to monitor closely post-entry compliance and to enforce the provisions of section 271 using the various enforcement tools Congress provided us in the Communications Act.

Federal Communications Commission.
William F. Caton,
Deputy Secretary.

[FR Doc. 01-18696 Filed 7-25-01; 8:45 am]

BILLING CODE 6712-01-P